DEPARTMENT OF THE TREASURY

Alcohol and Tobacco Tax and Trade Bureau

Proposed Information Collections; Comment Request

AGENCY: Alcohol and Tobacco Tax and Trade Bureau, Treasury.

ACTION: Notice and request for comments.

SUMMARY: As part of our continuing effort to reduce paperwork and respondent burden, and as required by the Paperwork Reduction Act of 1995, we invite comments on the proposed or continuing information collections listed below in this notice.

DATES: We must receive your written comments on or before February 22, 2010.

ADDRESSES: You may send comments to Mary A. Wood, Alcohol and Tobacco Tax and Trade Bureau, at any of these addresses:

• P.O. Box 14412, Washington, DC 20044-4412;

• 202-453-2686 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Usual and Customary Business Records Relating to Tax-Free Alcohol.

OMB Control Number: 1513-0059.

TTB Recordkeeping Number: 5150/3.

Abstract: Tax-free alcohol is used for nonbeverage purposes by educational organizations, hospitals, laboratories, etc. The use of alcohol free of tax is regulated to prevent illegal diversion to taxable beverage use. These records maintain spirits accountability and protect tax revenue and public safety. The record retention requirement for this information collection is 3 years.

Current Actions: We are submitting this information collection for extension purposes only. The estimated number of respondents has changed; however, no material change is being made to the information collection.

Type of Review: Extension of a currently approved collection.

Affected Public: Not-for-profit institutions; Federal Government; and State, local, or tribal governments.

Estimated Number of Respondents: 4,751.

Estimated Total Annual Burden Hours: 1.

Title: Letterhead Applications and Notices Relating to Denatured Spirits.

OMB Control Number: 1513-0061.

TTB Recordkeeping Number: 5150/2.

Abstract: Denatured spirits are used for nonbeverage industrial purposes in the manufacture of personal and household products. Permits and applications control the spirits' authorized uses and flow, and protect tax revenue and public safety. Letterhead application and notice requirements are used by TTB officials to ensure that lawful and appropriate actions are taken with regard to denatured spirits. The record retention requirement for this information collection is 3 years.

Current Actions: We are submitting this information collection for extension purposes only. The estimated number of respondents and estimated total annual burden hours has changed; however, no material change is being made to the information collection.

Type of Review: Extension of a currently approved collection.

Affected Public: Business or other for-profit; Not-for-profit institutions; and State, local, or tribal governments.

Estimated Number of Respondents: 3,778.

Estimated Total Annual Burden Hours: 1,889.

Title: Tobacco Products Importer or Manufacturer—Records of Large Cigar Wholesale Prices.

OMB Control Number: 1513-0071.

TTB Recordkeeping Number: 5230/1.

Abstract: This information collection is used by tobacco products importers or manufacturers who import or make large cigars. Records are needed to verify wholesale prices of those cigars as the tax is based on those prices. This collection also ensures that all tax revenue due to the government is collected. The record retention requirement for this information collection is 3 years.

Current Actions: We are submitting this information collection for extension purposes only. The information collection, estimated number of respondents, and estimated total annual burden hours remain unchanged.

Type of Review: Extension of a currently approved collection.

Affected Public: Business or other for-profit.

Estimated Number of Respondents: 818.

Estimated Total Annual Burden Hours: 1,906.

Title: Recordkeeping for Tobacco Products and Cigarette Papers or Tubes Brought from Puerto Rico to the U.S.

OMB Control Number: 1513-0108.

TTB Form or Recordkeeping Number: None.

Abstract: The prescribed recordkeeping requirements apply to persons who ship tobacco products or cigarette papers or tubes from Puerto Rico to the United States. The records verify the amount of taxes to be paid and that any required bond is sufficient to cover unpaid liabilities. The records must be retained for 3 years.

Current Actions: We are submitting this information collection for extension purposes only. The information collection, estimated number of respondents, and estimated total annual burden hours remain unchanged.

Type of Review: Extension of a currently approved collection.

Affected Public: Business or other for-profit.

Estimated Number of Respondents: 4.

Estimated Total Annual Burden Hours: 1.

Dated: December 17, 2009.
Francis W. Foote,
Director, Regulations and Rulings Division.

[FR Doc. E9-30446 Filed 12-22-09; 8:45 am]

BILLING CODE 4810-31-P